DEPARTMENT OF TRANSPORTATION

Federal Aviation Administration

14 CFR Part 71

[Docket No. FAA-2008-0683; Airspace Docket No. 08-ASW-11]

Establishment of Class E Airspace; Plains, TX

AGENCY: Federal Aviation Administration (FAA), DOT.

ACTION: Direct final rule; confirmation of effective date.

SUMMARY: This action confirms the effective date of the direct final rule that establishes Class E5 airspace at Plains, TX, published in the Federal Register July 7, 2008, (73 FR 38313) Docket No. FAA-2008-0683.

DATES: Effective Date: 0901 UTC September 25, 2008. The Director of the Federal Register approves this incorporation by reference action under Title 1, Code of Federal Regulations, Part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76193-0530; telephone (817) 222-5582.

SUPPLEMENTARY INFORMATION:

History

The FAA published a direct final rule with request for comments in the Federal Register July 7, 2008 (73 FR 38313), Docket No. FAA-2008-0683. The FAA uses the direct final rule procedure for non-controversial rules where the FAA believes that there will be no adverse public comment. This direct final rule advised the public that no adverse comments were anticipated, and that unless a written adverse comment, or a written notice of intent to submit an adverse comment, was received within the comment period, the regulation would become effective on September 25, 2008. No adverse comments were received; thus, this notice confirms that the direct final rule will become effective on this date.

List of Subjects in 14 CFR Part 71

Airspace, Incorporation by reference, Navigation (air).

Adoption of the Amendment

In consideration of the foregoing, the Federal Aviation Administration amends 14 CFR Part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1 963 Comp., p. 389.

§ 71.1 [Amended]

2. The incorporation by reference in 14 CFR Part 71.1 of the Federal Aviation Administration Order 7400.9R, Airspace Designations and Reporting Points, signed August 15, 2007, and effective September 15, 2007, is amended as follows:

Paragraph 6000 Class E Airspace.

* * * * *

ASW TX E5 Plains, TX [New]

Yoakum County Airport, Plains, TX

(Lat. 33°13′02″ N., long. 102°49′49″ W.)

That airspace extending upward from 700 feet above the surface within a 6.54-mile radius of Yoakum County Airport.

* * * * *

Issued in Fort Worth, TX, on August 28, 2008.
Roger M. Trevino,
Acting Manager, Operations Support Group, ATO Central Service Center.

[FR Doc. E8-22445 Filed 9-26-08; 8:45 am]

BILLING CODE 4910-13-M